ENVIRONMENTAL PROTECTION AGENCY

[EPA-HQ-OAR-2010-0108; FRL-9139-9]

Notice of Workshop To Discuss Policy-Relevant Science to Inform EPA's Integrated Plan for the Review of the Lead National Ambient Air Quality Standards

AGENCY: Environmental Protection Agency.

ACTION: Notice of workshop.

SUMMARY: The U.S. Environmental Protection Agency (EPA) is announcing that a workshop entitled, “Workshop to Discuss Policy-Relevant Science to Inform EPA's Integrated Plan for Review of the National Ambient Air Quality Standards for Lead,” is being organized by EPA's Office of Air and Radiation's Office of Air Quality Planning and Standards (OAQPS) and EPA's Office of Research and Development's National Center for Environmental Assessment (NCEA). The workshop will be held May 10-11, 2010, in Research Triangle Park, North Carolina. The workshop will be open to attendance by interested public observers on a first-come, first-served basis up to the limits of available space.

DATES: The workshop will be held on May 10 and 11, 2010. The pre-registration deadline is May 3, 2010.

ADDRESSES: The workshop will be held at the U.S. EPA, 109 T.W. Alexander Drive, Research Triangle Park, North Carolina. An EPA contractor, ICF International Inc., is providing logistical support for the workshop. To register, please use the on-line registration form at: http://epa.leadworkshop.icfi.com. Please direct questions regarding workshop registration or logistics to ICF staff at 919-293-1621 or EPA_Lead_Wksp@icfi.com, or contact Ms. Tricia Crabtree, OAQPS, at 919-541-5688. For specific questions regarding technical aspects of the workshop, see FOR FURTHER INFORMATION CONTACT below.

FOR FURTHER INFORMATION CONTACT: For information on technical aspects of the workshop, contact Dr. Deirdre Murphy, OAQPS, telephone: 919-541-0729, facsimile: 919-541-1818, or e-mail: Murphy.deirdre@epa.gov or contact Dr. Ellen Kirrane, NCEA, telephone: 919-541-1340, or e-mail: kirrane.ellen@epa.gov.

SUPPLEMENTARY INFORMATION:

I. Information about the Workshop

This workshop is designed to inform the planning for EPA's recently initiated review of the primary (health-based) and secondary (welfare-based) National Ambient Air Quality Standards (NAAQS) for lead (Pb).¹ Consistent with the NAAQS review process,² the workshop will provide an opportunity to highlight key policy issues around which EPA would structure the Pb NAAQS review. In workshop discussions, external and internal experts will be expected to highlight significant new and emerging Pb research and make recommendations to the Agency regarding the design and scope of this review. The goal of the workshop is to ensure that this review focuses on the key policy-relevant issues and considers the most meaningful new science to inform our understanding of these issues. Workshop discussions will provide important input as EPA considers the appropriate design and scope of major elements of the Pb review that will inform the Agency's policy assessment. These elements include an integrated review plan (IRP) highlighting the key policy-relevant issues; an integrated science assessment; and a risk and exposure assessment. The workshop discussions are planned to build upon the following two publications, copies of which are available at http://www.epa.gov/ttn/naaqs/standards/pb/s_pb_index.html.

¹ The Federal Register notice issuing EPA's call for information for the recently initiated review is available at: http://www.epa.gov/ttn/naaqs/standards/pb/s_pb_index.html.

² More information on the NAAQS review process is provided at: http://www.epa.gov/ttn/naaqs/.

1. National Ambient Air Quality Standards for Lead: Final Rule (73 FR 66964, November 12, 2008). The preamble to the final rule includes detailed discussions of policy-relevant issues central to the last review.

2. Air Quality Criteria for Lead (EPA/600/R-05/144aF, October 2006).

As an early step in the new review, the workshop is intended to identify issues and questions to frame the review. Drawing from the workgroup discussions, EPA will next develop a draft IRP. The IRP, in addition to summarizing the schedule and process for the review, will present general approaches for evaluating the relevant scientific information, assessing lead-related risks to public health and the environment, and addressing the key policy-relevant issues. The Clean Air Scientific Advisory Committee (CASAC) will be asked to consult with the Agency on the draft IRP in the late summer of 2010, and the public will have the opportunity to comment on it as well. The final IRP will be used as the framework to guide the review.

Dated: April 14, 2010.
Jennifer Noonan Edmonds,
Acting Director, Office of Air Quality Planning and Standards.

[FR Doc. 2010-9172 Filed 4-20-10; 8:45 am]

BILLING CODE 6560-50-P